ENVIRONMENTAL PROTECTION AGENCY

[FRL-6578-9]

Proposed Administrative Settlement Under Section 122(h) of the Comprehensive Environmental Response, Compensation and Liability Act Regarding the U.S. Radium Superfund Site, Orange, NJ

AGENCY: Environmental Protection Agency.

ACTION: Notice of proposed administrative settlement and request for public comment.

SUMMARY: The United States Environmental Protection Agency (“EPA”) is proposing to enter into an administrative settlement to resolve certain claims under the Comprehensive Environmental Response, Compensation and Liability Act of 1980, as amended (“CERCLA”) Notice is being published to inform the public of the proposed settlement and of the opportunity to comment. This settlement is intended to resolve Monique D'Onfrio's liability for certain response costs incurred by EPA at the U.S. Radium Superfund Site in Orange, New Jersey.

DATES: Comments must be provided on or before May 17, 2000.

ADDRESSES: Comments should be addressed to the U.S. Environmental Protection Agency, Office of Regional Counsel, 290 Broadway—17th Floor, New York, NY 10007, and should refer to: In the Matter of the U.S. Radium Superfund Site: U.S. Radium Administrative Settlement, under section 122 (h) of CERCLA, U.S. EPA Index No. II-CERCLA-02-2000-2003.

FOR FURTHER INFORMATION CONTACT: U.S. Environmental Protection Agency, Office of Regional Counsel, 290 Broadway—17th Floor, New York, NY 10007; Attention: Virginia A. Curry, Esq. (212) 637-3134, or curry.virginia@epa.gov.

SUPPLEMENTARY INFORMATION: In accordance with section 122(i)(1) of CERCLA, notice is hereby given of a proposed administrative settlement concerning the U.S. Radium Superfund Site located in Orange, New Jersey. Section 122(h) of CERCLA authorizes EPA to settle certain claims for costs incurred by the United States when the settlement is in the public interest and has received the approval of the Attorney General. EPA permanently relocated Monique D'Onfrio, the owner of a property within the U.S. Radium Site, to facilitate the remediation of the Site. Monique D'Onfrio has agreed to sell the Site property after it has been cleared up and to give EPA the net sale proceeds in partial reimbursement of response costs incurred at the Site.

Dated: April 5, 2000.
Jeanne M. Fox,
Regional Administrator, Region 2.

[FR Doc. 00-9389 Filed 4-14-00; 8:45 am]

BILLING CODE 6560-50-P